DEPARTMENT OF TRANSPORTATION

Federal Highway Administration

[FHWA Docket No. FHWA-05-22706]

Motor Vehicle Registration and Licensed Driver Information

AGENCY: Federal Highway Administration (FHWA), DOT.

ACTION: Notice; request for comments.

SUMMARY: The Federal Highway Administration (FHWA) annually analyzes and publishes motor vehicle registration and licensed driver information obtained from the States, the District of Columbia, and Puerto Rico. This notice seeks public input from users on the quality, timeliness, comprehensiveness, and other characteristics of these data. Based on this input and other information, the FHWA will determine whether it is necessary to change the motor vehicle registration and licensed driver information collected. The FHWA is considering various options for these data programs including investigating alternative sources of data from the public or private sector, developing enhanced software to capture and process the data more efficiently, and maintaining the status quo.

DATES: Comments should be received on or before March 7, 2006.

ADDRESSES: Mail or hand deliver comments for the docket number that appears in the heading of this document to the U.S. Department of Transportation, Dockets Management Facility, Room PL-401, 400 Seventh Street, SW., Washington, DC 20590-0001, or submit electronically at http://dms.dot.gov/submit or fax comments to (202) 493-2251.

Alternatively, comments may be submitted to the Federal rulemaking portal at http://www.regulations.gov. All comments must include the docket number that appears in the heading of this document. All comments received will be available for examination and copying at the above address from 9 a.m. to 5 p.m., e.t., Monday through Friday, except Federal holidays. Those desiring notification of receipt of comments must include a self-addressed, stamped postcard or you may print the acknowledgement page that appears after submitting comments electronically. Anyone is able to search the electronic form of all comments in any one of our dockets by the name of the individual submitting the comment (or signing the comment, if submitted on behalf of an association, business, or labor union). Anyone may review DOT's complete Privacy Act Statement in the Federal Register published on April 11, 2000 (Volume 65, Number 70, Pages 19477-78) or you may visit http://dms.dot.gov.

FOR FURTHER INFORMATION CONTACT: Mr. Tom Howard, 202-366-2833, Office of Highway Policy Information, HPPI-10, or Mr. Milton Hsieh, Office of Chief Counsel, HCC-40, 202-366-1397. Office hours are from 7:45 a.m. to 4:15 p.m., e.t., Monday through Friday, except Federal holidays.

SUPPLEMENTARY INFORMATION: Electronic Access and Filing: You may submit or retrieve comments online through the Document Management System (DMS) at: http://dms.dot.gov/submit. Electronic submission and retrieval help and guidelines are available under the help section. Alternatively, Internet users may access all comments received by the U.S. DOT Docket Facility by using the universal resource locator (URL) http://dms.dot.gov. It is available 24 hours each day, 365 days each year. Please follow the instructions. An electronic copy of this document may also be downloaded by accessing the Office of the Federal Register's home page at http://www.archives.gov and from the Government Printing Office's Web page at http://www.gpoaccess.gov/nara.

Background: The FHWA collects and publishes motor vehicle registration and licensed driver information obtained from the States, the District of Columbia, and Puerto Rico. This information is collected from State departments of transportation pursuant to 23 CFR 420.105 and is published in Highway Statistics.¹

¹ Highway Statistics is an annual report containing analyzed data on motor fuel, motor vehicles, driver licensing, highway user taxation, State and local highway finance, highway mileage, and other selected data. This report has been published each year since 1945. It is available at the following URL: http://www.fhwa.dot.gov/policy/ohpi/hss/.

The information in Highway Statistics is used in the development of highway legislation at the Federal level. The information is also used in preparing legislatively required reports to Congress, in keeping State governments informed, and, in general, as an aid to highway planning, programming, budgeting, forecasting, and fiscal management. This information is also used extensively in the evaluation of Federal, State, and local highway programs. The FHWA has re-assessed DOT internal needs for these data and has preliminarily determined that the information in Highway Statistics meets the Federal need of providing a national perspective on highway program activities.

This notice seeks public input from users on the quality, timeliness, comprehensiveness, and other characteristics of the motor vehicle registration and licensed driver data collected by the FHWA and published in Highway Statistics. Based on this input and other information, the FHWA will determine whether it is necessary to change the motor vehicle registration and licensed driver information collected. The motor vehicle registration data currently collected by the FHWA can be found in Highway Statistics tables MV-1, MV-2, MV-7, MV-9, MV-10 and MV-11. The licensed driver data currently collected by the FHWA can be found in Highway Statistics tables DL-1C, DL-20 and DL-22.

Motor vehicle registration: The motor vehicle registration data collection practices vary among the States. States register specific vehicle types on a calendar year or fiscal year basis. States may use some form of a “staggered” system to register motor vehicles to permit a distribution of the renewal workload throughout all months. In addition, most States allow pre-registration or permit “grace periods” to better distribute the annual registration workload.

States report motor vehicle registrations by major vehicle classes: automobiles, buses, trucks, and motorcycles. The truck category includes light trucks to the extent they can be identified and separated from automobiles. Data on trucks, buses, trailers, and semitrailers are given in tables MV-9, MV-10, and MV-11, respectively. Although the detail of motor-vehicle data has improved in recent years, it is not yet possible to obtain from all States separate data on single-unit trucks and combinations. Some States provide data for light trucks and truck tractors, but for many States the FHWA estimates this information using other data sources, such as the Vehicle Inventory and Use Survey conducted by the Bureau of the Census.² The table MV-9 light truck category includes pickups, vans (full-size and mini), utility-type vehicles, as well as other vehicles (panel trucks and delivery vans generally of 10,000 pounds or less gross vehicle weight). Registrations of publicly owned motor vehicles are reported in table MV-7.

² This report is available at the following URL: http://www.census.gov/svsd/www/tiusview.html.

Registration practices for commercial vehicles also differ greatly among the States. Some States register a tractor-semitrailer combination as a single unit; others register the tractor and the semitrailer separately. Regardless of how they were registered, only the power units have been included in the truck count in table MV-1. Some States register buses with trucks or automobiles; many States do not report light utility trailers separately from commercial trailers or semitrailers; and some States do not require registration of car or light utility trailers.

Drivers' License: Each State, the District of Columbia, and Puerto Rico administers its own driver licensing system. Since 1954 all States have required drivers to be licensed, and since 1959 all States have required examination prior to licensing. Tests of knowledge of State driving laws and practices, vision, and driving proficiency are now required for new licensees. The State distribution of total U.S. licensed drivers, by sex and age group, is shown in table DL-1C.

The distribution of total U.S. licensed drivers, by sex and age group, is shown in table DL-20.

DL-22 displays the number of drivers by sex and age groups for each State. For the States that do not provide the driver license data broken out to the top age bracket of 85 and over, we have redistributed the last age bracket provided by each State according to the Census population data for those particular age brackets in that particular State.

Conclusion: This notice seeks public input from users on the quality, timeliness, comprehensiveness, and other characteristics of these data. Based on this input and other information, the FHWA will determine whether it is necessary to change the motor vehicle registration and licensed driver information collected, and the steps needed to ensure the quality of the information.

Specifically, the FHWA is interested in comments from users of motor vehicle registration and licensed driver information on data uses, data quality, data timeliness, data availability, and how well data meets user needs. Currently, the FHWA is considering various options for these data programs including investigating alternative sources of data from the public or private sector, developing enhanced software to capture and process the data more efficiently, and maintaining the status quo.

Issued on: December 28, 2005.
J. Richard Capka,
Acting Federal Highway Administrator.

[FR Doc. E6-11 Filed 1-5-06; 8:45 am]

BILLING CODE 4910-22-P